DEPARTMENT OF AGRICULTURE

Forest Service

National Urban and Community Forestry Advisory Council

AGENCY: Forest Service, USDA.

ACTION: Notice of intent to re-establish an advisory committee.

SUMMARY: The Secretary of Agriculture intends to re-establish the National Urban and Community Forestry Advisory Council (Council). In accordance with provisions of the Federal Advisory Committee Act (FACA), the Council is being re-established to continue: (1) Developing a National Urban and Community Forestry action plan in accordance with Section 9(g)(3)(A-F) of the Act; (2) evaluating the implementation of the plan; (3) developing criteria; and (4) submitting recommendations for the Forest Service's National Urban and Community Forestry Cost-share Grant Program as required by Section 9(f)(1-2) of the Act. The Council is necessary and in the public interest.

FOR FURTHER INFORMATION CONTACT: Nancy Stremple, U.S. Department of Agriculture, Forest Service, State and Private Forestry, Cooperative Forestry, address: Yates Building, 3NW, Mail Stop 1151, 201 14th Street SW., Washington, DC 20250 or telephone: 202-205-7829. Individuals who use telecommunication devices for the deaf (TDD) may call the Federal Information Relay Service (FIRS) at 1-800-877-8339 between 8:00 a.m. and 8:00 p.m., Eastern Standard Time, Monday through Friday.

SUPPLEMENTARY INFORMATION:

Background

In accordance with the provisions of the Federal Advisory Committee Act (FACA), as amended (5 U.S.C. App 2), Section 9 of the Cooperative Forestry Assistance Act, as amended by Title XII, Section 1219 of Public Law 101-624 (Act) (16 U.S.C. 2105g), and with the concurrences of the General Services Administration (GSA), the Secretary of Agriculture intends to re-establish the Council. The Council is a statutory advisory committee. The Council operates under the provisions of FACA and will report to the Secretary of Agriculture through the Chief of the Forest Service.

The purpose of the Council is to provide advice on urban and community forestry and related natural resources and make recommendations on how USDA can tailor its programs to better serve the needs of the urban and community forestry community of practice. The Council will perfom the following tasks listed above in the “Summary Section”.

Advisory Committee Organization

The Council will be comprised of 15 members who provide a balanced and broad representation within each of the following interests:

(1) Two members representing national nonprofit forestry and conservation citizen organizations;

(2) Three members, one each representing State, county, and city and town governments;

(3) One member representing the forest products, nursery, or related industries;

(4) One member representing urban forestry, landscape, or design consultants;

(5) Two members representing academic institutions with an expertise in urban and community forestry activities;

(6) One member representing state forestry agencies or equivalent state agencies;

(7) One member representing a professional renewable natural resource or arboricultural society;

(8) One member from Extension Service (National Institute of Food & Agriculture);

(9) One member from the Forest Service; and

(10) Two members who are not officers or employees of any governmental body, one of whom is a resident of a community with a population of less that 50,000 as of the most recent census and both of whom have expertise and have been active in urban and community forestry.

No individual who is currently registered as a Federal lobbyist is eligible to serve as a member of the Council. Members of the Council serve without compensation, but may be reimbursed for travel expenses while performing duties on behalf of the Council, subject to approval by the Designated Federal Official (DFO). The Council meets bi-annually or as often as necessary and at such times as designated by the DFO.

The appointment of members to the Council is made by the Secretary of Agriculture. Further information about the Council is posted on the National Urban and Community Forestry Advisory Council Web site: www.fs.fed.us/ucf.nucfac.html.

Equal opportunity practices in accordance with U.S. Department of Agriculture (USDA) policies will be followed in all appointments to the Council. To ensure that the recommendations of the Council have taken into account the needs of the diverse groups served by USDA, membership includes to the extent possible, individuals with demonstrated ability to represent minorities, women, and persons with disabilities.

Dated: July 8, 2014.
Gregory L. Parham,
Assistant Secretary for Administration.

[FR Doc. 2014-16684 Filed 7-15-14; 8:45 am]

BILLING CODE 3411-15-P